DEPARTMENT OF HOMELAND SECURITY

Federal Emergency Management Agency

44 CFR Part 67

[Docket No. FEMA-P-7909]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4

2. The tables published under the authority of § 67.4 are proposed to be amended as follows:

Source of flooding and location of referenced elevation | ◆Elevation in feet (NAVD): Existing | ◆Elevation in feet (NAVD): Modified | Communities affected
Crystal Creek:
Just upstream of South Harrison Street | ◆734 | ◆735 | Village of Algonquin, City of Crystal Lake, Village of Lake-in-the-Hills, McHenry County, (Unincorporated Areas).
Just downstream of Country Club Road | ◆892 | ◆891 |
Village of Algonquin, McHenry County, Illinois.
Maps are available for inspection at Community Map Repository, 2200 Harnish Drive, Algonquin, Illinois.
Send comments to The Honorable John Schmidt, Acting President, 2200 Harnish Drive, Algonquin, Illinois 60102.
Village of Crystal Lake, McHenry County, Illinois.
Maps are available for inspection at Community Map Repository, Department of Planning and Development, 100 West Municipal Complex, Crystal Lake, Illinois.
Send comments to The Honorable Aaron Shepley, Mayor, Village of Crystal Lake, Post Office Box 597, 100 West Municipal Complex, Crystal Lake, Illinois 60039-0597.
Village of Lake-in-the-Hills, McHenry County, Illinois.
Maps are available for inspection at Community Map Repository, Office of Community Development, 600 Harvest Gate, Lake-in-the-Hills, Illinois.
Send comments to The Honorable Ed Plaza, President, Village of Lake-in-the-Hills, 600 Harvest Gate, Lake-in-the-Hills, Illinois 60156.
Unincorporated Areas of McHenry County, Illinois.
Maps are available for inspection at Community Map Repository, Planning and Development, 2200 North Seminary Avenue, Administrative Building, Woodstock, Illinois.
Send comments to The Honorable Ken Koehler, Chairman, McHenry County Board, 2200 North Seminary Avenue, Woodstock, Illinois 60098.
Big Hollow Creek:
At the confluence with Turkey Creek | ◆719 | ◆720 | Taney County, (Unincorporated Areas), City of Hollister.
Approximately 5,540 feet upstream of Hidden Valley Road | ◆None | ◆806 |
Happy Hollow Creek:
At the confluence with Turkey Creek | ◆None | ◆773 | Taney County, (Unincorporated Areas).
Approximately 8,675 feet upstream of the confluence with Turkey Creek | ◆None | ◆867 |
Kohler Creek:
Approximately 350 feet upstream of the confluence with Turkey Creek | ◆724 | ◆725 | Taney County, Unincorporated Areas), City of Hollister.
Approximately 6,370 feet upstream of Maple Street | ◆None | ◆869 |
Roark Creek:
At the confluence with White River | ◆714 | ◆719 | City of Branson, Taney County, (Unincorporated Areas).
Approximately 250 feet upstream of U.S. Highway 65 | ◆718 | ◆719 |
Swan Creek:
At the confluence with White River | ◆None | ◆694 | Taney County, (Unincorporated Areas), City of Forsyth.
Approximately 1,250 feet upstream of Strawberry Road | ◆None | ◆694 |
Thorp Creek:
At the confluence with Turkey Creek | ◆None | ◆855 | Taney County, (Unincorporated Areas).
Approximately 6,810 feet upstream of the confluence with Turkey Creek | ◆None | ◆907 |
Turkey Creek:
At the confluence with White River | ◆716 | ◆720 | Taney County, (Unincorporated Areas), City of Hollister.
Approximately 6,950 feet upstream of the confluence of Thorp Creek | ◆None | ◆902 |
White River:
At the southern county boundary | ◆None | ◆692 | Taney County, (Unincorporated Areas), City of Branson, City of Forsyth, City of Hollister, Village of Merriam Woods, Town of Rockaway Beach.
Approximately 5.73 miles upstream of the confluence of Cooper Creek | ◆None | ◆735 |
City of Branson, Taney County, Missouri.
Maps are available for inspection at the Community Map Repository, 110 West Maddux Street, Suite 215, Branson, Missouri.
Send comments to The Honorable Louis E. Shaefer, Mayor, City of Branson, City Hall, 110 West Maddux Street, Branson, Missouri 65616.
City of Forsyth, Taney County, Missouri.
Maps are available for inspection at the Community Map Repository, 15405 U.S. Highway 160, Forsyth, Missouri.
Send comments to The Honorable Karl Smith, Mayor, City of Forsyth, Post Office Box 545, 15405 U.S. Highway 160, Forsyth, Missouri 65653.
City of Hollister, Taney County, Missouri.
Maps are available for inspection at the Community Map Repository, City Hall, 312 Esplanade Street, Hollister, Missouri.
Send comments to The Honorable David G. Tate, Mayor, City of Hollister, Post Office Box 638, Hollister, Missouri 65673.
Village of Merriam Woods, Taney County, Missouri.
Maps are available for inspection at the Community Map Repository, Clerk's Office, 4417 State Highway 176, Merriam Woods, Missouri.
Send comments to The Honorable Mike Wilkerson, Chairman of the Board, Village of Merriam Woods, Post Office Box 238, Merriam Woods, Missouri 65740.
Town of Rockaway Beach, Taney County, Missouri.
Maps are available for inspection at the Community Map Repository, City Hall, 2764 State Highway 176, Rockaway Beach, Missouri.
Send comments to The Honorable Thomas Strom, Mayor, Town of Rockaway Beach, City Hall, Post Office Box 315, Rockaway Beach, Missouri 65740.
Unincorporated Area of Taney County, Missouri.
Maps are available for inspection at the Community Map Repository, 1617 U.S. Highway 160, Forsyth, Missouri.
Send comments to The Honorable Chuck Pennel, Presiding Commissioner, Taney County, Post Office Box 1086, Forsyth, Missouri 65653.
◆ North American Vertical Datum of 1988.

Source of flooding and location of referenced elevation | *Elevation in feet (NGVD): Existing | *Elevation in feet (NGVD): Modified | Communities affected
Skokie River:
Approximately 3,000 feet upstream of Clavey Road | *636 | *635 | City of Highland Park
Approximately 4,500 feet downstream of Deerfield Road | *637 | *636
City of Highland Park, Illinois.
Maps are available for inspection at the Public Works Office, 1150 Half Day Road, Highland Park, Illinois.
Send comments to The Honorable Michael D. Belsky, Mayor, City of Highland Park, City Hall, 1707 Saint Johns Avenue, Highland Park, Illinois 60035.
*National Geodetic Vertical Datum.

(Catalog of Federal Domestic Assistance No. 83.100, “Flood Insurance.”)

Dated: January 4, 2006.
David I. Maurstad,
Acting Director, Mitigation Division, Federal Emergency Management Agency, Department of Homeland Security.

[FR Doc. E6-2417 Filed 2-17-06; 8:45 am]

BILLING CODE 9110-12-P